DEPARTMENT OF AGRICULTURE

Notice of Proposed Revision to Privacy Act Systems of Records

AGENCY: Office of the Secretary, Department of Agriculture (USDA).

ACTION: Notice of proposed revision to Privacy Act Systems of Records.

DATES: Effective Date: This notice will be adopted without further publication in the Federal Register on September 23, 2008 unless modified by a subsequent notice to incorporate comments received from the public. Comments must be received by the contact person listed below on or before August 25, 2008.

FOR FURTHER INFORMATION CONTACT: Mr. David R. Gray, Counsel to the Inspector General, Office of Inspector General, U.S. Department of Agriculture, 1400 Independence Avenue, SW., Room 441-E, Washington, DC 20250-2308: (202) 720-9110, Facsimile: (202) 690-1528, e-mail: drgray@oig.usda.gov.

SUPPLEMENTARY INFORMATION: USDA Office of Inspector General (OIG) proposes to rename Privacy Act system of records USDA/OIG-5, change the description for “Policies and Practices for Storing, Retrieving, Accessing, Retaining, and Disposing of Records in the System,” and add one new routine use, pursuant to recent Office of Management and Budget (OMB) requirements.

In accordance with the Privacy Act 5 U.S.C. 552(a)(e)(11), USDA OIG proposes to revise its seven systems of records, USDA/OIG-1: Employee Records, USDA/OIG; USDA/OIG-2: Informant and Undercover Agent Records, USDA/OIG; USDA/OIG-3: Investigative Files and Automated Investigative Indices System; USDA/OIG-4: OIG Hotline Complaint Records, USDA/OIG; USDA/OIG-5: Consolidated Assignments Personnel Tracking Administrative Information Network (CAPTAIN), USDA/OIG; USDA/OIG-6: Training Tracking System, USDA/OIG; and USDA/OIG-7: Freedom of Information Act and Privacy Act Request Records, USDA/OIG. The full systems of records were last published in the Federal Register on pages 61262-61266, 62 FR 61262, et seq., November 17, 1997; and they were last amended on pages 21389-21391, 70 FR 21389, et seq., April 26, 2005.

OIG proposes to rename USDA/OIG-5 “Consolidated Assignments Personnel Tracking Administrative Information Network (CAPTAIN),” to USDA/OIG-5 “Automated Reporting and General Operations System (ARGOS).” The ARGOS system has information contained in it of OIG, and OIG has limited its usage to OIG employees on a need-to-know basis.

OIG further proposes to add an OMB-mandated New Disclosure Routine Use language in the OIG system of records notice (SORN) revisions, to be numbered “16,” which would allow disclosure to appropriate agencies, entities, and persons when the agency suspects or has confirmed that the security or confidentiality of information in the system of records has been compromised or to assist in connection with USDA's efforts to respond to the suspected or confirmed compromise and to prevent, minimize, or remedy such harm. Specifically the text will read:

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

OIG also proposes revising the description in the “Policies and Practices for Storing, Retrieving, Accessing, Retaining, and Disposing of Records in the System” for all seven of its Privacy Act systems of records to reflect that covered electronic information stored on OIG computers is now maintained in ARGOS, an application system built specifically by OIG to store information. The ARGOS system as an application system is stored on four servers: Two in Washington, DC and two in remote locations for backup purposes. The previous language was as follows: “Storage: Records are maintained on computers and automated image filing systems, and in file folders, notebooks, and card file boxes.” The new language will read as follows: “Storage: Records are maintained in software applications, and some information is also stored in file folders.”

All other aspects of OIG's systems of records remain unchanged and are as published. A “Report on New System,” required by 5 U.S.C. 552a(r), as implemented by OMB Circular A-130, was sent to the Chairman, Committee on Homeland Security and Governmental Affairs, United States Senate; the Chairman, Committee on Oversight and Government Reform, House of Representatives; and the Administrator, Office of Information and Regulatory Affairs, Office of Management and Budget.

Dated: June 17, 2008.
Edward T. Schafer,
Secretary.

* * * * *

USDA/OIG-1

System Name:

Employee Records, USDA/OIG.

* * * * *

Routine Uses of Records Maintained in the System, including categories of users and the purposes of such:

* * * * *

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

Records are maintained in software applications, and some information is also stored in file folders.

* * * * *

USDA/OIG-2

System Name:

Informant and Undercover Agent Records, USDA/OIG.

* * * * *

Routine Uses of Records Maintained in the System, including categories of users and the purposes of such:

* * * * *

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

Records are maintained in software applications, and some information is also stored in file folders.

* * * * *

USDA/OIG-3

System Name:

Investigative Files and Automated Investigative Indices System, USDA/OIG.

* * * * *

Routine Uses of Records Maintained in the System, including categories of users and the purposes of such:

* * * * *

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

Records are maintained in software applications, and some information is also stored in file folders.

* * * * *

USDA/OIG-4

System Name:

OIG Hotline Complaint Records, USDA/OIG.

* * * * *

Routine Uses of Records Maintained in the System, including categories of users and the purposes of such:

* * * * *

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

Records are maintained in software applications, and some information is also stored in file folders.

* * * * *

USDA/OIG-5

System Name:

Automated Reporting and General Operations System (ARGOS), USDA/OIG.

* * * * *

Routine Uses of Records Maintained in the System, including categories of users and the purposes of such:

* * * * *

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

Records are maintained in software applications, and some information is also stored in file folders.

* * * * *

USDA/OIG-6

System Name:

Training Tracking System, USDA/OIG.

* * * * *

Routine Uses of Records Maintained in the System, including categories of users and the purposes of such:

* * * * *

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

Records are maintained in software applications, and some information is also stored in file folders.

* * * * *

USDA/OIG-7

System Name:

Freedom of Information Act and Privacy Act Request Records, USDA/OIG.

* * * * *

Routine Uses of Records Maintained in the System, including categories of users and the purposes of such:

* * * * *

16. To appropriate agencies, entities, and persons when (1) OIG suspects or has confirmed that the security or confidentiality of information in the system of records has been compromised; (2) USDA has determined that as a result of the suspected or confirmed compromise there is a risk of harm to economic or property interests, identity theft or fraud, or harm to the security or integrity of this system or other systems or programs (whether maintained by USDA or another agency or entity) that rely upon the compromised information; and (3) the disclosure made to such agencies, entities, and persons is reasonably necessary to assist in connection with USDA's efforts to respond to the suspected or confirmed compromise and prevent, minimize, or remedy such harm.

Storage:

Records are maintained in software applications, and some information is also stored in file folders.

* * * * *

[FR Doc. E8-17052 Filed 7-24-08; 8:45 am]

BILLING CODE 3410-23-P